SECURITIES AND EXCHANGE COMMISSION

Sunshine Act Meetings

Notice is hereby given, pursuant to the provisions of the Government in the Sunshine Act, Pub. L. 94-409, that the Securities and Exchange Commission will hold the following meetings during the week of July 15, 2002:

Closed Meetings will be held on Tuesday, July 16, 2002, at 10 a.m., and Thursday, July 18, 2002, at 10 a.m., and an Open Meeting will be held on Wednesday, July 17, 2002, at 10 a.m., in Room 1C30, the William O. Douglas Room.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), (9)(ii) and (10), permit consideration of the scheduled matters at the closed meetings.

The subject matter of the Closed Meeting scheduled for Tuesday, July 16, 2002, will be:

Formal orders of investigation;

Institution and settlement of injunctive actions; and

Institution and settlement of administrative proceedings of an enforcement nature.

The subject matter of the Closed Meeting scheduled for Thursday, July 18, 2002, will be:

Formal orders of investigation;

Institution and settlement of injunctive actions;

Institution and settlement of administrative proceedings of an enforcement nature; and

Adjudicatory matter.

The subject matter of the Open Meeting scheduled for Wednesday, July 17, 2002, will be:

1. The Commission will consider whether to propose amendments to rule 206(4)-2, the custody rule under the Investment Advisers Act of 1940, to enhance the protections afforded to advisory clients' assets, harmonize the rule with current custodial practices, and clarify circumstances under which advisers have custody of client assets.

2. The Commission will consider whether to adopt amendments to rule 17a-8 under the Investment Company Act of 1940. The proposed amendments to rule 17a-8 would expand the types of business combinations permitted by the rule and make the rule available for mergers between registered investment companies and certain unregistered entities. The proposed amendments to rule 17a-8 are designed to reduce burdens on investment companies by permitting investment companies to enter into mergers that present little risk of overreaching without first obtaining an exemptive order from the Commission.

3. The Commission will consider whether to propose exemptions for most standardized options from provisions of the Securities Act of 1933 and from the registration requirements of the Securities Exchange Act of 1934. The proposals would ensure comparable regulatory treatment of standardized options and security futures products.

4. The Commission will consider whether to amend the Privacy Act System of Records for Enforcement Files (SEC-42) to clarify that disclosures may be made in connection with debt collection activities, including disclosures to credit reporting bureaus, to update statutory and regulatory references and addresses of system administrators, and to append a statement regarding previously published Privacy Act exemptions claimed for the system.

At times, changes in Commission priorities require alterations in the scheduling of meeting items. For further information and to ascertain what, if any, matters have been added, deleted or postponed, please contact: The Office of the Secretary at (202) 942-7070.

Dated: July 9, 2002.
Margaret H. McFarland,
Deputy Secretary.

[FR Doc. 02-17610 Filed 7-9-02; 4:17 pm]

BILLING CODE 8010-01-M